ENVIRONMENTAL PROTECTION AGENCY

40 CFR Parts 52 and 81

[R03-OAR-2004-WV-0001; FRL-7836-5]

Approval and Promulgation of Air Quality Implementation Plans; West Virginia; Determination of Attainment and Redesignation of the City of Weirton PM10 Nonattainment Area to Attainment and Approval of the Maintenance Plan; Correction

AGENCY: Environmental Protection Agency (EPA).

ACTION: Direct final rule; correcting amendment.

SUMMARY: This document corrects an omission in the preamble language of a direct final rule pertaining to a determination of attainment and redesignation of the City of Weirton PM10 Nonattainment Area to attainment and approval of the maintenance plan submitted by the State of West Virginia.

DATES: This document will be effective on December 27, 2004, unless EPA receives adverse written comment by November 26, 2004. If EPA receives such comments, it will publish a timely withdrawal of the direct final rule in the Federal Register and inform the public that the rule will not take effect. Please see EPA's direct final rule published on October 27, 2004 (69 FR 62591), for instructions for submitting comments.

FOR FURTHER INFORMATION CONTACT: Linda Miller, (215) 814-2068, or by e-mail at miller.linda@epa.gov.

SUPPLEMENTARY INFORMATION: Throughout this document wherever “we,” or “our” are used we mean EPA. On October 27, 2004, (69 FR 62591), we published a final rulemaking action announcing approval of a determination of attainment and redesignation of the City of Weirton PM10 Nonattainment our Area (the Weirton area) to attainment and approval of the maintenance plan for the area. In the preamble of this document, we inadvertently omitted language explaining why PM10 motor vehicle emissions budgets, for purposes of transportation conformity, not required to be part of the maintenance plan for the area. Our intent was to explain that the ambient impact of PM10 emissions from onroad motor vehicles was not and is not significant as it has been and continues to be less than five percent of the total PM10 ambient concentrations in the area. Stationary (point) source emissions are responsible for the remaining impacts. The May 24, 2004 submittal from West Virginia requesting redesignation and approval of the maintenance plan (which is in the docket for this final rule) includes a letter from EPA to the State of West Virginia, dated April 26, 1995. In that letter, EPA agreed that because the ambient impact of PM10 emissions from onroad motor vehicles was less than five percent of the total PM10 ambient concentrations in the area, the impact of PM10 emissions from onroad motor vehicles was not responsible for nonattainment. That letter also stated that for purposes of transportation conformity no additional quantitative analyses for transportation-related PM10 impacts were required for the area. The May 24, 2004 submittal from West Virginia also includes emission inventory data and information regarding the area's declining population indicating a decrease in on road mobile emissions.

Although the docket for this final rule includes documentation that the ambient impact of PM10 emissions from onroad motor vehicles did not and do not significantly contribute to the total PM10 ambient concentrations in the area, the preamble of published final rule itself did not provide this information. This action corrects that omission. In rule document 04-23945 published in the Federal Register on October 27, 2004 (69 FR 62591), on page 62594 in the second column, under 2. Maintenance Demonstration the revised preamble language is corrected to add a second paragraph to read—“West Virginia's May 24, 2004 submittal includes documentation that the ambient impact of PM10 emissions from onroad motor vehicles was not and is not significant as it has been and continues to be less than five percent of the total PM10 ambient concentrations in the area. Stationary (point) source emissions are responsible for the remaining impacts. The enforceable measures imposed by West Virginia to reduce emissions from these point sources are the basis of the Weirton area achieving the NAAQS for PM10. Therefore, no motor vehicle emissions budgets for transportation conformity purposes are required for the Weirton area's maintenance plan.”

Statutory and Executive Order Reviews

As this action merely provides supplemental text to the preamble of the direct final rule published on October 27, 2004, please refer to that direct final rule (69 FR 62591, 62595) for information regarding applicable Statutory and Executive Order Reviews.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This correction to rule document 04-23945 is not a “major rule” as defined by 5 U.S.C. 804(2).

Dated: November 3, 2004.
Donald S. Welsh,
Regional Administrator, EPA Region III.

[FR Doc. 04-24912 Filed 11-8-04; 8:45 am]

BILLING CODE 6560-50-P